DEPARTMENT OF ENERGY

Federal Energy Regulatory Commission

[Docket Nos. AD13-7-000-AD14-8-000]

Centralized Capacity Markets in Regional Transmission Organizations and Independent System Operators; Winter 2013-2014 Operations and Market Performance in Regional Transmission Organizations and Independent System Operators; Notice Allowing Public Comment

On November 20, 2014, the Federal Energy Regulatory Commission (Commission) issued an Order on Technical Conferences ¹ to address the issue of fuel assurance, which was raised in various venues, including the Commission's September 25, 2013 technical conference on centralized capacity markets in regional transmission organizations and independent system operators (RTO/ISO) and the Commission's April 1, 2014 technical conference on winter 2013/2014 operations and market performance in RTOs/ISOs. The Order discussed fuel assurance issues and directed RTOs/ISOs to file reports on the status of their efforts to address fuel assurance issues within 90 days of the date of the order. On February 18, 2015, the RTOs/ISOs submitted their reports in compliance with the order.

¹ Centralized Capacity Markets in Regional Transmission Organizations and Independent System Operators, 149 FERC ¶ 61,145 (2014) (Order).

In the Order, the Commission also allowed for a 30-day public comment period following the submission of the RTO/ISO reports. Pursuant to the Order, all interested persons are invited to file comments on any or all of the RTO/ISO reports filed. These comments must be filed with the Commission no later than 5:00 p.m. Eastern Standard Time (EST) on Friday, March 20, 2015.

For more information about this Notice, please contact: David Tobenkin (Technical Information), Office of Energy Policy and Innovation, Federal Energy Regulatory Commission, 888 First Street NE., Washington, DC 20426, (202) 502-6445, David.Tobenkin@ferc.gov; Kate Hoke (Legal Information), Office of the General Counsel, Federal Energy Regulatory Commission, 888 First Street NE., Washington, DC 20426, (202) 502-8404, Katheryn.Hoke@ferc.gov.

Dated: February 20, 2015.
Nathaniel J. Davis, Sr.,
Deputy Secretary.

[FR Doc. 2015-04018 Filed 2-25-15; 8:45 am]

BILLING CODE 6717-01-P